DEPARTMENT OF COMMERCE

Economic Development Administration

Proposed Information Collection; Comment Request; Omnibus Notice for: Comprehensive Economic Development Strategy; Requirements for Approved Construction Investments; Award Amendment Requests and Project Service Maps; and Property Management

AGENCY: Economic Development Administration (EDA).

ACTION: Notice.

SUMMARY: The Department of Commerce, as part of its continuing effort to reduce paperwork and respondent burden, invites the general public and other Federal agencies to take this opportunity to comment on proposed and/or continuing information collections, as required by the Paperwork Reduction Act of 1995, as amended.

DATES: Written comments must be submitted on or before March 23, 2009.

ADDRESSES: Direct all written comments to Diana Hynek, Departmental Paperwork Clearance Officer, Department of Commerce, Room 7845, 14th Street and Constitution Avenue, NW., Washington, DC 20230 (or via the Internet at dHynek@doc.gov).

FOR FURTHER INFORMATION CONTACT: Requests for additional information or copies of the information collection instrument and instructions should be directed to Maureen Klovers, Program Analyst, Office of Regional Affairs, Room 7019, Economic Development Administration, Washington, DC 20230, telephone (202) 482-2785, facsimile (202) 482-2838 (or via the Internet at mklovers@eda.doc.gov).

SUPPLEMENTARY INFORMATION: The mission of the Economic Development Administration (EDA) is to lead the Federal economic agenda by promoting innovation and competitiveness, preparing American regions for growth, and success in the worldwide economy. In order to effectively administer and monitor its economic development assistance programs, EDA collects certain information from applicants for, and recipients of, EDA investment assistance. Four separate information collections expiring April 30, 2009, are combined in this notice for efficiency and economy purposes and are proposed to be reinstated without change: A. Comprehensive Economic Development Strategy (OMB Control No. 0610-0093); B. Requirements for Approved Construction Investments (OMB Control No.0610-0096); C. Request To Amend an Investment Award and Project Service Maps (OMB Control No. 0610-0102); and D. Property Management (OMB Control No. 0610-0103).

A. Comprehensive Economic Development Strategy (OMB Control No. 0610-0093)

I. Abstract

A Comprehensive Economic Development Strategy (CEDS) is required to qualify for EDA investment assistance under its Public Works, Economic Adjustment, and most planning programs, and is a prerequisite for a region's designation by EDA as an Economic Development District (see 13 CFR 303, 305.2, and 307.2 of EDA's regulations). This collection of information is required to ensure that the recipient is complying with EDA's CEDS requirements.

II. Method of Collection

Paper report. Alternatively, EDA may approve an electronic submission.

III. Data

Agency Form Number: None.

Type of Review: Regular submission.

Affected Public: EDA applicants for, and recipients of, Public Works, Economic Adjustment, and planning assistance, to include (1) Cities or other political subdivisions of a state, including a special purpose unit of state or local government engaged in economic or infrastructure development activities, or a consortium of political subdivisions; (2) states; (3) institutions of higher education or a consortia of institutions of higher education; (4) public or private non-profit organizations or associations; (5) District Organizations; and (6) Indian Tribes or a consortia of Indian Tribes.

Estimated Number of Annual Responses: 522 (14 initial CEDS, 74 revised CEDS, 371 updated CEDS performance reports, 62 CEDS for applicants for EDA assistance not located in EDA-funded planning district).

Estimated Time Per Response: 480 hours for the initial CEDS for a District Organization or other planning organization funded by EDA; 160 hours for the CEDS revision required at least every 5 years from an EDA-funded District or other planning organization; 40 hours for the annual updated CEDS performance report required of EDA-funded District or other planning organizations; 40 hours per applicant for EDA Public Works or Economic Adjustment Assistance with a project deemed by EDA to ‘merit further consideration’ that is not located in an EDA-funded District.

Estimated Total Annual Burden Hours: 35,927.

Estimated Total Annual Cost: $0.

B. Requirements for Approved Construction Investments (OMB Control No. 0610-0096)

I. Abstract

The Summary of EDA Construction Standards (commonly referred to as the “bluebook”) and the Standard Terms and Conditions for Construction Projects, as well as any special conditions incorporated into the terms and conditions at the time of award, supplement the requirements that apply to EDA-funded construction projects. The information collected is used to monitor recipients' compliance with EDA's statutory and regulatory requirements and specific terms and conditions relating to individual awards. EDA also uses the information requested to analyze and evaluate program performance.

II. Method of Collection

Paper report. For some documents, EDA may approve electronic submissions.

III. Data

Agency Form Number: None.

Type of Review: Regular submission.

Affected Public: Current recipients of EDA construction (Public Works or Economic Adjustment) assistance, to include (1) Cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes.

Estimated Number of Annual Responses: 4,200 (600 open construction grants x an average of 7 responses/year).

Estimated Time per Response: 2 hours.

Estimated Total Annual Burden Hours: 8,400.

Estimated Total Annual Cost: $0.

C. Request To Amend an Investment Award and Project Service Maps (OMB Control No. 0610-0102)

I. Abstract

A recipient must submit a written request to EDA to amend an investment award and provide such information and documentation as EDA deems necessary to determine the merit of altering the terms of an award (see 13 CFR 302.7(a) of EDA's regulations). EDA may require a recipient to submit a project service map and information from which to determine whether services are provided to all segments of the region being assisted (see CFR 302.16(c) of EDA's regulations).

II. Method of Collection

Paper report.

III. Data

Agency Form Number: None.

Type of Review: Ad hoc submission (on an as-needed basis).

Affected Public: Current recipients of EDA assistance, to include (1) Cities or other political subdivisions of a state, including a special purpose unit of state or local government engaged in economic or infrastructure development activities, or a consortium of political subdivisions; (2) states; (3) institutions of higher education or a consortia of institutions of higher education; (4) public or private non-profit organizations or associations; (5) District Organizations; (6) Indian Tribes or a consortia of Indian Tribes; and (7) (for training, research, and technical assistance awards only) individuals and for-profit businesses.

Estimated Number of Annual Responses: 600 requests for amendments to construction awards, 30 requests for amendments to non-construction awards, 2 project service maps.

Estimated Time Per Response: 2 hours per request for an amendment to a construction award, 1 hour per request for an amendment to a non-construction award, 6 hours for a project service map.

Estimated Total Annual Burden Hours: 1,242.

Estimated Total Annual Cost: $0.

D. Property Management (OMB Control No. 0610-0103)

I. Abstract

A recipient must request, in writing, EDA's approval to undertake an incidental use of property acquired or improved with EDA investment assistance (see 13 CFR 314.3 of EDA's regulations). This collection of information allows EDA to determine whether an incidental use of property acquired or improved with EDA investment assistance is appropriate. If a recipient wishes for EDA to release its real property or tangible personal property interests before the expiration of the property's estimated useful life, the recipient must submit a written request to EDA and disclose to EDA the intended future use of the real property or the tangible personal property for which the release is requested (see 13 CFR 314.10 of EDA's regulations). This collection of information allows EDA to determine whether to release its real property or tangible personal property interests.

II. Method of Collection

Paper Report. Alternatively, EDA may approve an electronic submission.

III. Data

Agency Form Number: None.

Type of Review: Ad hoc submission (only when a recipient makes a request).

Affected Public: Current or past recipients of EDA construction (Public Works or Economic Adjustment) assistance, to include (1) Cities or other political subdivisions of a state, including a special purpose unit of state or local government engaged in economic or infrastructure development activities, or a consortium of political subdivisions; (2) states; (3) institutions of higher education or a consortium of institutions of higher education; (4) public or private non-profit organizations or associations; (5) District Organizations; and (6) Indian Tribes or a consortia of Indian Tribes.

Estimated Number of Annual Responses: 54 incidental use requests; 96 for requests to release EDA's property interest.

Estimated Time Per Response: 45 minutes.

Estimated Total Annual Burden Hours: 113.

Estimated Total Annual Cost: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 14, 2009.
Gwellnar Banks,
Management Analyst, Office of the Chief Information Officer.

[FR Doc. E9-1129 Filed 1-21-09; 8:45 am]

BILLING CODE 3510-34-P